SMALL BUSINESS ADMINISTRATION

[License No. 05/05-0294]

Invision Capital I, L.P.; Surrender of License of Small Business Investment Company

Pursuant to the authority granted to the United States Small Business Administration under section 309 of the Small Business Investment Act of 1958, as amended, and 13 CFR 107.1900 of the Code of Federal Regulations to function as a small business investment company under the Small Business Investment Company License No. 05/05-0294 issued to Invision Capital I, L.P., said license is hereby declared null and void.

Bailey G. DeVries,
Associate Administrator, Office of Investment and Innovation, United States Small Business Administration.

[FR Doc. 2024-00048 Filed 1-4-24; 8:45 am]

BILLING CODE P